DEPARTMENT OF HEALTH AND HUMAN SERVICES

Office of the Secretary

Findings of Research Misconduct; Correction

AGENCY: Office of the Secretary, HHS.

ACTION: Correction of notice.

SUMMARY: This document corrects an error that appeared in the notice published in the June 8, 2016, Federal Register entitled “Findings of Research Misconduct.”

DATES:

Effective Date: April 7, 2017.

Applicability Date: The correction notice is applicable for the Findings of Research Misconduct notice published on June 8, 2016.

FOR FURTHER INFORMATION CONTACT: Ms. Karen Gorirossi at 240-453-8800.

SUPPLEMENTARY INFORMATION:

I. Background

In FR Doc. 2016-13541 of June 8, 2016 (81 FR 36932-36933), there was a typographical error involving one of the papers cited in the notice. The error is identified and corrected in the Correction of Errors section below.

II. Correction of Errors

In FR Doc. 2016-13541 of June 8, 2016 (81 FR 36932-36933), make the following correction:

1. On page 36932, third column, in FR Doc. 2016-13541, second to last paragraph, line 5, change “August” to “December” so that the text reads “falsified twenty-four (24) fluorescent image panels by drawing staining in Photoshop and falsely labeling them in Figures 5B, 5C, 5D, 5E, 7A, 7B, 7D, 8A, 8B, 9A, and 9B in the December 2015 Development paper and included some of the same images in four (4) figures in the ASCB 2015 poster and in two (2) figures in the MARZ 2015 poster”

Dated: March 30, 2017.
Kathryn Partin,
Director, Office of Research Integrity.

[FR Doc. 2017-07006 Filed 4-6-17; 8:45 am]

BILLING CODE 4150-31-P